DEPARTMENT OF TRANSPORTATION

Coast Guard

33 CFR Part 164

46 CFR Parts 25 and 27

[USCG-2000-6931]

Fire-Suppression Systems and Voyage Planning for Towing Vessels

AGENCY: Coast Guard, DOT.

ACTION: Notice of meeting; request for comments.

SUMMARY: The Coast Guard will hold a public meeting to discuss proposed rules for improving the safety of towing vessels. A supplemental notice of proposed rulemaking published on November 8, 2000, would require the installation of fixed fire-extinguishing systems in towing vessels' engine rooms, and it would require owners or operators, and masters, to ensure that voyage plans are complete before their towing vessels commence trips with any barge in tow. These rules would reduce the number of uncontrolled fires in engine rooms, and other fire-related or operational mishaps on towing vessels; as a result, they would save lives, diminish property damage, and reduce the associated threats to the environment and maritime commerce.

The Coast Guard encourages interested parties to attend the meeting and submit comments for discussion during the meeting. In addition, the Coast Guard seeks written comments from any party who is unable to attend the meeting.

DATES: The Coast Guard will hold this public meeting on February 8, 2001, from 1 p.m. to 5 p.m. This meeting may close early if all business is finished. Written material for discussion during the meeting should reach the Docket Management Facility on or before February 2, 2001. Other written comments must reach the Docket Management Facility on or before March 8, 2001.

ADDRESSES: The Coast Guard will hold this public meeting at the U.S. Department of Transportation, Nassif Building, rooms 2230 and 2232, 400 Seventh Street SW., Washington, DC 20590-0001. The telephone number is 202-267-1181. You may mail your comments to the Docket Management Facility [USCG-2000-6931], U.S. Department of Transportation, room PL-401, 400 Seventh Street SW., Washington, DC 20590-0001, or deliver them to room PL-401 on the Plaza level of the Nassif Building at the same address between 9 a.m. and 5 p.m., Monday through Friday, except for Federal holidays. The telephone number is 202-366-9329.

The Docket Management Facility maintains the public docket for this notice. Comments, and documents as indicated in this notice, will become part of this docket and will be available for inspection or copying at room PL-401, on the Plaza level of the Nassif Building at the same address between 9 a.m. and 5 p.m., Monday through Friday, except Federal holidays. You may also access this docket on the Internet at http://dms.dot.gov.

FOR FURTHER INFORMATION CONTACT: For questions on this notice, contact Randall Eberly, P.E., Project Manager, Lifesaving and Fire Safety Division of the Office of Design and Engineering Standards (G-MSE-4), Coast Guard, telephone 202-267-1861. For questions on viewing, or submitting material to the docket, contact Dorothy Beard, Chief, Dockets, Department of Transportation, telephone 202-366-9329.

SUPPLEMENTARY INFORMATION:

Requests for Comments

The Coast Guard encourages interested persons to submit written data, views, or arguments. Persons submitting comments should include their names and addresses, identify this notice [USCG-2000-6931], and give the reason for each comment. Please submit all comments and attachments in an unbound format, no larger than 81/2 by 11 inches, suitable for copying and electronic filing to the Docket Management Facility at the address under ADDRESSES. Persons wanting acknowledgement of receipt of comments should enclose stamped, self-addressed postcards or envelopes.

The Coast Guard will consider all comments received during the comment period.

Information on Service for Individuals With Disabilities

For information on facilities or services for individuals with disabilities or to request special assistance at the meeting, contact Mr. Eberly at the address or phone number under FOR FURTHER INFORMATION CONTACT as soon as possible.

Background Information

The U.S. Coast Guard's supplemental notice of proposed rulemaking (SNPRM) on “Fire-Suppression Systems and Voyage Planning for Towing Vessels” [USCG-2000-6931] was published in the Federal Register November 8, 2000 [65 FR 66941]. The SNPRM proposes the installation of fixed fire-extinguishing systems in the enginerooms of towing vessels, and it proposes that owners or operators, and masters, ensure that voyage planning is conducted before vessels towing barges get underway on trips or voyages of at least 12 hours. Towing vessels that engage only in assistance towing, pollution response, or fleeting duties in limited geographical areas would be exempt from the measures in this SNPRM. The SNPRM stems from the incident on January 19, 1996, off the coast of Rhode Island when the tugboat SCANDIA, with the tank barge NORTH CAPE in tow, caught fire five miles off the coast. Crewmembers could not control the fire and, without power, they were unable to prevent the barge carrying 4 million gallons of oil from grounding and spilling about a quarter of its contents into the coastal waters. The spill led Congress to amend the law to permit the Secretary of Transportation—“in consultation with the Towing Safety Advisory Committee” (TSAC)—to require fire-suppression and other measures on all towing vessels. The measures outlined in the SNPRM would likely decrease the number and severity of injuries to crews, prevent damage to vessels, structures and other property, and protect the environment.

Public Meeting

This meeting is open to the public. Please note that the meeting may close early if all business is finished. Members of the public may make oral presentations during the meeting. If you would like to make an oral presentation at the meeting, please notify the Coast Guard point of contact listed under FOR FURTHER INFORMATION CONTACT no later than February 2, 2001.

Dated: December 19, 2000.
Joseph J. Angelo,
Director of Standards, Marine Safety and Environmental Protection.

[FR Doc. 00-33079 Filed 12-27-00; 8:45 am]

BILLING CODE 4910-15-P